DEPARTMENT OF ENERGY

Federal Energy Regulatory Commission

[Docket No. CP07-441-000; Docket No. CP07-444-000]

Pacific Connector Gas Pipeline, LP, Jordan Cove Energy Project, LP; Notice of Availability of the Draft Environmental Impact Statement for the Proposed Jordan Cove LNG and Pacific Connector Gas Pipeline Project

August 29, 2008.

The staff of the Federal Energy Regulatory Commission (FERC or Commission) has prepared a draft Environmental Impact Statement (EIS) for the construction and operation of the liquefied natural gas (LNG) import terminal and natural gas pipeline facilities proposed by Jordan Cove Energy Project, LP (Jordan Cove) and Pacific Connector Gas Pipeline LP (Pacific Connector) in the above-referenced dockets. We ¹ call this the Jordan Cove Energy and Pacific Connector Pipeline (JCE & PCGP) Project, or simply the Project. The JCE & PCGP Project facilities would be located in Coos, Douglas, Jackson, and Klamath Counties, Oregon.

¹ The pronouns “we,” “us,” or “our” refer to the environmental staff of the FERC's Office of Energy Projects.

The draft EIS was prepared to satisfy the requirements of the National Environmental Policy Act. The United States (U.S.) Department of Agriculture Forest Service, U.S. Army Corps of Engineers, U.S. Environmental Protection Agency, U.S. Department of Homeland Security Coast Guard, Pipeline and Hazardous Materials Safety Administration of the U.S. Department of Transportation, U.S. Department of the Interior Bureau of Land Management and Bureau of Reclamation, and Douglas County, Oregon, are cooperating agencies for the development of this EIS. A cooperating agency has jurisdiction by law or special expertise with respect to potential environmental impacts associated with the proposal and is involved in the NEPA analysis.

Based on the analysis included in the draft EIS, the FERC staff concludes that the proposed action would have limited adverse environmental impacts. However, if the Project is constructed and operated in accordance with applicable laws and regulations, and with implementation of Jordan Cove's and Pacific Connector's proposed mitigation measures, and the additional mitigation measures recommended by staff, environmental impacts would be substantially reduced.

The purpose of the Project is to provide a new import access point for overseas LNG and provide a new source of natural gas to markets in the Pacific Northwest, northern Nevada, and northern California. LNG is natural gas that has been turned into a liquid state by cooling it to about −260 degrees Fahrenheit to reduce its volume for transport in specially designed carriers some distance across oceans from its point of origin to the proposed Jordan Cove LNG import terminal in Coos Bay. Jordan Cove would off-load and would store the LNG in specially designed tanks at its terminal, vaporize the LNG back into natural gas, and provide up to 1.0 billion cubic feet per day of natural gas to the region through the Pacific Connector sendout pipeline and interconnections with an intrastate pipeline, and four interstate pipeline systems.

The draft EIS addresses the potential environmental effects associated with the construction and operation of the facilities listed below. Jordan Cove's import terminal, located on the bay side of the North Spit of Coos Bay, at about Channel Mile 7.5 up the existing Coos Bay navigation channel, in Coos County, Oregon, would include:

• Access channel from the existing Coos Bay navigation channel and slip;

• LNG unloading berth and transfer pipeline;

• Two full-containment LNG storage tanks, each with a capacity 160,000 m³ (or 1,006,000 barrels);

• Vapor handling system, and vaporization equipment capable of regasifying the LNG for delivery into the natural gas sendout pipeline;

• Piping, ancillary buildings, safety systems, and other support facilities;

• A natural gas liquids (NGL) extraction facility, with the NGL to be sold to an entity other than Jordan Cove and likely transported from the terminal using existing railroad lines;

• 37-megawatt, natural gas-fired, simple-cycle combustion turbine powerplant to provide electric power for the LNG terminal; and

• Three disposal areas for the storage of excavated and dredged materials resulting from the construction of the access channel and slip.

Pacific Connector's natural gas facilities, extending from the Jordan Cove terminal southeast across Coos, Douglas, Jackson, and Klamath Counties Oregon, to its terminus near Malin, with interconnections with Avista Corporation, Williams Northwest Pipeline Corporation (Williams Northwest), Gas Transmission Northwest Corporation, Tuscarora Gas Transmission Company, and Pacific Gas and Electric Company, would include:

• 229.5-mile-long, 36-inch-diameter welded steel underground interstate natural gas pipeline;

• Natural gas compressor station at Butte Falls, in Jackson County, consisting of two new 10,310-horsepower (hp) compressor units;

• Four natural gas meter stations, including the Jordan Cove Receipt Meter Station in Coos County, Clarks Branch Delivery Meter Station in Douglas County, Shady Cove Delivery Meter Station in Jackson County, and the adjoining Tule Lake, Russell Canyon, and Buck Butte Meter Stations in Klamath County;

• Gas control communication system, consisting of new radio towers at each meter station and the compressor station, use of an existing communication site owned by Williams Northwest and leased space on seven other existing communication towers;

• Mainline block valves (MLV) at approximately 16 locations along the Pacific Connector pipeline; and

• Five pig ² launchers and receivers, four co-located with meter stations and the compressor station, and the fifth co-located with a MLV.

² A “pig” is a tool for cleaning and inspecting the inside of a pipeline.

Comment Procedures

Any person wishing to comment on the draft EIS may do so. To ensure consideration prior to the Commission making a decision on the proposals, it is important that the Commission receives your comments before December 4, 2008. Please carefully follow the instructions below so that your comments are properly recorded.

For your convenience, there are three methods you can use to submit your comments to the Commission. In all instances please reference the Project Docket Numbers CP07-441-000 and CP07-444-000 with your submission. The Commission encourages electronic filing of comments and has dedicated eFiling expert staff available to assist you at 202-502-8258 or efiling@ferc.gov.

(1) You may file your comments electronically by using the Quick Comment feature, which is located on the Commission's internet Web site at http://www.ferc.gov under the link to Documents and Filings. A Quick Comment is an easy method for interested persons to submit text-only comments on a project;

(2) You may file your comments electronically by using the eFiling feature, which is located on the Commission's internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing”; or

(3) You may file your comments via mail to the Commission by sending an original and two copies of your letter to: Kimberly D. Bose, Secretary, Federal Energy Regulatory Commission, 888 First St., NE, Room 1A, Washington, DC 20426.

Label one copy of the comments for the attention of Gas Branch 3, PJ-11.3. Mail your comments promptly, so that they will be received in Washington, DC on or before December 4, 2008.

In addition to receiving written comments, by mail or electronically, we will hold a series of public meetings at several locations near the Project area in southwestern Oregon to take oral comments on the draft EIS. The FERC will issue a notice in the near future providing the dates, time, and locations of these public comment meetings.

After comments on the draft EIS are reviewed, any significant new issues are investigated, and modifications are made to the EIS text, a final EIS will be published and distributed. The final EIS will contain the staff's responses to timely comments received on the draft EIS.

Comments will be considered by the Commission and the cooperating agencies but will not serve to make the commentor a party to the proceeding. Any person seeking to become a party to the proceeding must file a motion to intervene pursuant to Rule 214 of the Commission's Rules of Practice and Procedures (18 CFR 385.214). Only intervenors have the right to seek rehearing of the Commission's decision. Further instructions for becoming an intervenor are included in the User's Guide under the “e-filing” link on the Commission's Web site (http://www.ferc.gov). You do not need intervenor status to have your environmental comments considered.

The draft EIS has been placed in the public files of the FERC and is available for distribution and public inspection at: Federal Energy Regulatory Commission, Public Reference Room, 888 First Street, NE., Room 2A, Washington, DC 20426, (202) 502-8371.

Volumes 1 and 2 of the draft EIS, containing text of the analysis, was printed in hard copy. Volume 3, containing the appendices, was produced as .pdf files on a compact disk (CD) that can be read by a personal computer with a CD-ROM drive. A limited number of hard copies and CDs of the draft EIS are available from the FERC's Public Reference Room, identified above. This draft EIS is also available for public viewing on the FERC's Internet Web site at http://www.ferc.gov, via the eLibrary link.

Copies of the draft EIS have been mailed to federal, state, and local agencies; elected officials; Indian tribes and Native American organizations with an interest in the project area; interveners; regional environmental organizations and public interest groups; affected landowners; local libraries and newspapers; and other interested parties. Hard copies of volumes 1 and 2 were mailed to cooperating agencies; other appropriate federal, state, and local government agencies who participated in interagency meetings; intervenors; and parties that specifically requested hard copies. All others on the mailing list were sent a single CD containing all volumes of the draft EIS.

Additional information about the Project is available from the Commission's Office of External Affairs at 1-866-208-FERC (3372) or on the FERC Internet Web site (http://www.ferc.gov). Go to Documents & Filings and choose the eLibrary link. Under eLibrary, click on “General Search,” and enter the docket number excluding the last three digits in the field (e.g., CP07-441). Be sure you have selected an appropriate date range. For assistance, please contact FERC Online Support at: FERCOnlineSupport@ferc.gov or toll free at 1-866-208-3676, or for TTY call 202-502-8659. The eLibrary link on the FERC Internet Web site also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to the eSubscription link on the FERC Internet Web site (http://www.ferc.gov/esubscripenow.htm).

Kimberly D. Bose,
Secretary.

[FR Doc. E8-20717 Filed 9-5-08; 8:45 am]

BILLING CODE 6717-01-P